OFFICE OF PERSONNEL MANAGEMENT

Proposed Collection; Comment Request for Review of a Revised Information Collection: Agency Generic Survey Plan

AGENCY: Office of Personnel Management.

ACTION: Notice.

SUMMARY: In accordance with the Paperwork Reduction Act of 1995 (Pub. L. 104-13, May 22, 1995), this notice announces that the Office of Personnel Management (OPM) intends to submit to the Office of Management and Budget a request for review of a revised information collection. The agency Generic Survey Plan will be revised to be an umbrella for all OPM customer satisfaction surveys used to measure satisfaction with OPM programs and services. This Plan satisfies the requirements of Executive Order 12862 and the guidelines set forth in OMB's “Resource Manual for Customer Surveys”.

Comments are particularly invited on: Whether this information is necessary for the proper performance of functions of OPM, and whether it will have practical utility; whether our estimate of the public burden of this collection of information is accurate, and based on valid assumptions and methodology; and ways in which we can minimize the burden of the collection of information on those who are to respond, through the use of appropriate technological collection techniques or other forms of information technology.

The surveys completed will include web-based (electronic), paper-based, telephone and focus groups. We estimate approximately 1,000,000 surveys will be completed annually. The time estimate varies from 3 minutes to 2 hours to complete with the average being 15 minutes. The annual estimated burden is 250,000 hours.

For copies of this proposal, contact Mary Beth Smith-Toomey on (202) 606-2150, Fax (202) 418-3251 or e-mail to: mbtoomey@opm.gov.

DATES: Comments on this proposal should be received within 60 calendar days from the date of this publication.

ADDRESSES: Send or deliver comments to—Mary Beth Smith-Toomey, OPM Forms, PRA and Records Officer, Center for Information Services, U.S. Office of Personnel Management, 1900 E Street, NW., Room 5415, Washington, DC 20415.

U.S. Office of Personnel Management.
Howard Weizmann,
Deputy Director.

[FR Doc. E8-5175 Filed 3-13-08; 8:45 am]

BILLING CODE 6325-47-P